ENVIRONMENTAL PROTECTION AGENCY

[FRL OP-OFA-106]

Environmental Impact Statements; Notice of Availability

Responsible Agency: Office of Federal Activities, General Information 202-564-5632 or https://www.epa.gov/nepa.

Weekly receipt of Environmental Impact Statements (EIS)

Filed January 8, 2024 10 a.m. EST Through January 12, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240004, Draft, BLM, DC, Utility-Scale Solar Energy Development PEIS, Comment Period Ends: 04/18/2024, Contact: Jeremy Bluma 208-789-6014.

EIS No. 20240005, Final, NNSA, SC, Surplus Plutonium Disposition Program, Review Period Ends: 02/20/2024, Contact: Maxcine Maxted 803-952-7434.

EIS No. 20240006, Draft, BLM, NV, Libra Solar, Comment Period Ends: 03/04/2024, Contact: Melanie Hornsby 775-885-8024.

Amended Notice

EIS No. 20240000, Draft, NRC, MD, Site-Specific Environmental Impact Statement for License Renewal of Nuclear Plants Supplement 7a, Second Renewal Regarding Subsequent License Renewal for North Anna Power Station Units 1 and 2, Comment Period Ends: 02/22/2024, Contact: Tam Tran 301-415-3617.

Revision to FR Notice Published 01/05/2024; Extending the Comment Period from 02/20/2024 to 02/22/2024.

Dated: January 16, 2024.
Julie Smith,
Acting Director, NEPA Compliance Division, Office of Federal Activities.

[FR Doc. 2024-00985 Filed 1-18-24; 8:45 am]

BILLING CODE 6560-50-P